DEPARTMENT OF HEALTH AND HUMAN SERVICES

National Institutes of Health

National Institute of General Medical Sciences; Amended Notice of Meeting

Notice is hereby given of a change in the meeting of the National Advisory General Medical Sciences Council, September 01, 2021, 09:30 a.m. to September 02, 2021, 05:00 p.m., National Institutes of Health, Natcher Building, 6707 Democracy Boulevard, Bethesda, MD 20892 which was published in the Federal Register on December 31, 2020, FR Doc 2020-28902, 85 FR 86940.

The meeting notice is amended to change the meeting date and time from September 1-2, 2021, 9:30 a.m. to 5:00 p.m. to September 9, 2021, 9:00 a.m. to 4:30 p.m. The meeting is partially closed to the public.

Dated: June 14, 2021.
David W. Freeman,
Program Analyst, Office of Federal Advisory Committee Policy.

[FR Doc. 2021-13377 Filed 6-23-21; 8:45 am]

BILLING CODE 4140-01-P